DEPARTMENT OF TRANSPORTATION

Federal Aviation Administration

Public Notice for Waiver of Aeronautical Land-Use Assurance; Mount Comfort Airport; Indianapolis, IN

AGENCY: Federal Aviation Administration, DOT.

ACTION: Notice of intent of waiver with respect to land.

SUMMARY: The Federal Aviation Administration (FAA) is considering a proposal to change a portion of the airport from aeronautical use to non-aeronautical use and to authorize the sale of the airport property. The 3.27-acre parcel is on Airport Boulevard near the western border of the airport. It is contained within Parcels 18-1 and 18-2 on the current Exhibit A. The current Airport Layout Plan identifies this land as part of an area reserved for future aviation related development. The land was acquired under FAA Project No(s). ADAP 5-18-0037-01 and ADAP 5-18-0037-02. The release of the land is considered beneficial to the safety of the airport because the Buck Creek Township Fire Department proposes to construct a new fire station at this location. Approval does not constitute a commitment by the FAA to financially assist in the disposal of the subject airport property nor a determination of eligibility for grant-in-aid funding from the FAA. The disposition of proceeds from the disposal of the airport property will be in accordance FAA's Policy and Procedures Concerning the Use of Airport Revenue, published in the Federal Register on February 16, 1999.

In accordance with section 47107(h) of title 49, United States Code, this notice is required to be published in the Federal Register 30 days before modifying the land-use assurance that requires the property to be used for an aeronautical purpose.

DATES: Comments must be received on or before June 19, 2006.

FOR FURTHER INFORMATION CONTACT: Sandra A. Lyman, Airports Engineer, 2300 East Devon, Des Plaines, Illinois. Telephone Number (847) 294-7525 FAX Number (847) 294-7046. Documents reflecting this FAA action may be reviewed at this same location or at Mount Comfort Airport, Indianapolis, Indiana.

SUPPLEMENTARY INFORMATION: Following is a legal description of the property located in Greenfield, Hancock County, Indiana, and described as follows:

A part of the Southwest Quarter of Section 7, Township 16 North, Range 6 East, Hancock County, Indiana, more particularly described as follows: Commencing at the southwest corner of the Southwest Quarter of said Section 7; thence North 0 degrees 28 minutes 42 seconds West (assumed bearing) 551.75 feet along the west line of said Southwest Quarter to the centerline of Airport Boulevard; thence North 70 degrees 09 minutes 26 seconds East along the centerline of said Airport Boulevard 817.59 feet; thence South 19 degrees 50 minutes 34 seconds East 100.00 feet to the point of beginning of this description, said point being marked by a ⅝ inch rebar with yellow cap marked “Daniel Kovert 29300002” (hereinafter referred to as a capped rebar) thence North 70 degrees 09 minutes 26 seconds East 375.00 feet to a caped rebar; thence South 19 degrees 50 minutes 34 seconds East 380.00 feet to a capped rebar; thence South 70 degrees 09 minutes 26 seconds West 375.00 feet to a capped rebar; thence North 19 degrees 50 minutes 34 seconds West 380.00 feet to the point of beginning, containing 3.27 acres, more or less and subject to all highways, rights-of-way, easements, agreements, and other restrictions.

Dated: Issued in Des Plaines, Illinois, on May 4, 2006.
Larry Ladendorf,
Acting Manager, Chicago Airports District Office, FAA, Great Lakes Region.

[FR Doc. 06-4735 Filed 5-19-06; 8:45 am]

BILLING CODE 4910-13-M